DEPARTMENT OF ENERGY

Federal Energy Regualtory Commission

[Docket No. RP01-375-000]

Vector Pipeline L.P.; Notice of Tariff Filing

April 18, 2001.

Take notice that on April 12, 2001, Vector Pipeline L.P. (Vector) tendered for filing as part of its FERC Gas Tariff, Original Volume No. 1, the following tariff sheets, with an effective date of April 12, 2001, for the disclosure of a recently completed negotiated rate transaction with Northern Indiana Public Service Company:

First Revised Sheet No. 172

Vector states that copies of its letter of transmittal and enclosures have been served upon Vector's customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10042 Filed 4-23-01; 8:45 am]

BILLING CODE 6717-01-M